DEPARTMENT OF AGRICULTURE

Natural Resources Conservation Service

Lost Creek Watershed, Newton County, MO

AGENCY: Natural Resources Conservation Service, Department of Agriculture.

ACTION: Notice of a Finding of No Significant Impact.

SUMMARY: Pursuant to Section 102(2)(c) of the National Environmental Policy Act of 1969; the Council on Environmental Quality Regulations (40 CFR part 1500); and the Natural Resources Conservation Service Regulations (7 CFR part 650); the Natural Resources Conservation Service, U.S. Department of Agriculture, gives notice that an environmental impact statement is not being prepared for the Lost Creek Watershed, Newton County, Missouri.

FOR FURTHER INFORMATION CONTACT: Harold Deckerd, Assistant State Conservationist, Natural Resources Conservation Service, 601 Business Loop 70 West, Parkade Center, Suite 250, Columbia, Missouri 65203, (573) 876-0912.

SUPPLEMENTARY INFORMATION: The environmental assessment of this federally assisted action indicates that the project will not cause significant local, regional, or national impacts on the environment. As a result of these findings, Roger A. Hansen, State Conservationist, has determined that the preparation and review of an environmental impact statement are not needed for this project. The project purposes are to rehabilitate the existing Structure B-2 in order to comply with state and federal dam safety regulations and maintain flood damage reductions. The planned works of improvement include widening the auxiliary spillway, lowering the control section of the auxiliary spillway, and lowering the inlet of the principal spillway. The Notice of a Finding of No Significant Impact (FONSI) has been forwarded to the Environmental Protection Agency and to various federal, state, and local agencies and interested parties. A limited number of copies of the FONSI are available to fill single copy requests at the above address. Basic data developed during the environmental assessment are on file and may be reviewed by contacting Harold L. Deckerd, Assistant State Conservationist (WR) at (573) 876-0912.

No administrative action on implementation of the proposal will be taken until 30 days after the date of this publication in the Federal Register.

Roger A. Hansen,
State Conservationist.

(This activity is listed in the Catalog of Federal Domestic Assistance under NO.10.904, Watershed Protection and Flood Prevention, and is subject to the provisions of Executive Order 12372, which requires intergovernmental consultation with state and local officials.)

2

[FR Doc. E7-16703 Filed 8-22-07; 8:45 am]

BILLING CODE 3410-16-P